DEPARTMENT OF JUSTICE

Notice of Filing of Proposed Settlement Agreement Regarding Environmental Claims in Connection With Army Creek Landfill Site, Blosenski Landfill Site and Delaware Sand and Gravel Site

On May 3, 2016, a proposed Settlement Agreement Regarding Environmental Claims in Connection with Army Creek Landfill Site, Blosenski Landfill Site and Delaware Sand and Gravel Site was filed in the United States Bankruptcy Court for the Northern District of Illinois, in the proceeding entitled In re Budd Company, Inc., Ch. 11, Bankr. No. 14-11873-JBS.

Under the proposed Settlement Agreement, the debtor, Budd Company, Inc. (“Budd”) will agree to allowed general unsecured claims of (1) $100,000 for response costs incurred and to be incurred at the Army Creek Landfill Site near New Castle, Delaware; (2) $1,847,557 for response costs at the Blosenski Landfill Site in West Caln Township, Pennsylvania ($590,321 allocated to EPA, and the remainder to a group of other responsible parties); and (3) $4,250,000 for response costs at the Delaware Sand & Gravel Quarry and Landfill Site near New Castle Delaware ($3,850,806 allocated to EPA, the rest to a group of other responsible parties). Under Budd's proposed Plan of Reorganization, it is anticipated that allowed general unsecured claims will be paid at a rate of 66%.

The publication of this notice opens a period for public comment on the Settlement Agreement. Comments should be addressed to the Assistant Attorney General, Environment and Natural Resources Division, and should refer to In re Budd Company, Inc., D.J. Ref. No. 90-11-2-556/1. All comments must be submitted no later than midnight (Eastern Time) May 25, 2016. Comments may be submitted either by email or by mail:

To submit comments: | Send them to:
By email | pubcomment-ees.enrd@usdoj.gov.
By mail | Assistant Attorney General, U.S. DOJ—ENRD, P.O. Box 7611, Washington, DC 20044-7611.

During the public comment period, the Settlement Agreement may be examined and downloaded at this Justice Department Web site: https://www.justice.gov/enrd/consent-decrees. We will provide a paper copy of the Settlement Agreement upon written request and payment of reproduction costs. Please mail your request and payment to: Consent Decree Library, U.S. DOJ—ENRD, P.O. Box 7611, Washington, DC 20044-7611.

Please enclose a check or money order for $ 5.50 (25 cents per page reproduction cost) payable to the United States Treasury.

Jeffrey K. Sands,
Assistant Section Chief, Environmental Enforcement Section, Environment and Natural Resources Division.

[FR Doc. 2016-10955 Filed 5-9-16; 8:45 am]

BILLING CODE 4410-15-P